DEPARTMENT OF HEALTH AND HUMAN SERVICES

Centers for Disease Control and Prevention

[60Day-11-11IR]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Carol E. Walker, CDC Acting Reports Clearance Officer, 1600 Clifton Road, MS D-74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of Core Violence and Injury Prevention Program (Core VIPP)—New—National Center for Injury Prevention and Control, Centers for Disease Control and Prevention (CDC).

Background and Brief Description

Injuries and their consequences, including unintentional and violence-related injuries, are the leading cause of death for the first four decades of life, regardless of gender, race, or socioeconomic status. More than 179,000 individuals in the United States die each year as a result of unintentional injuries and violence, more than 29 million others suffer non-fatal injuries and over one-third of all emergency department (ED) visits each year are due to injuries. In 2000, injuries and violence ultimately cost the United States $406 billion, with over $80 billion in medical costs and the remainder lost in productivity.¹ Most events that result in injury and/or death from injury could be prevented if evidence-based public health strategies, practices, and policies were used throughout the nation.

¹ Finkelstein EA, Corso PS, Miller TR, Associates. Incidence and Economic Burden of Injuries in the United States. New York: Oxford University Press; 2006.

CDC's National Center for Injury Prevention and Control (NCIPC) is committed to working with their partners to promote action that reduces injuries, violence, and disabilities by providing leadership in identifying priorities, promoting tools, and monitoring effectiveness of injury and violence prevention and to promote effective strategies for the prevention of injury and violence, and their consequences. One tool NCIPC will use to accomplish this is the Core Violence and Injury Prevention Program (VIPP). This program funds state health departments to build effective delivery systems for dissemination, implementation and evaluation of evidence based/best practice programs and policies.

Core VIPP also focuses on the integration of unintentional injury and violence prevention. Unintentional injury and violence prevention have many common risk and protective factors for children. In an endeavor to promote efforts to prevent child maltreatment, a NCIPC priority, CDC is collaborating with the Health Resources and Services Administration (HRSA) regarding the new Affordable Care Act (ACA) Maternal, Infant, and Early Childhood Home Visiting Program. The state health departments funded by the Core VIPP will be required to partner with the state agency responsible for administration of the State Home Visiting program.

CDC requests OMB approval to collect program evaluation data for Core VIPP over a two-year period. Specifically, CDC will use a Planning and Evaluation Tool (PET) that is being developed for the Core VIPP grantees. This tool provides CDC the means to collect standardized, systematic data from the Core VIPP grantees. Topics for data collection include: Program evaluation, state health department (SHD) injury program infrastructure, injury program strategies and partners, policy strategies, injury surveillance, quality of surveillance, and regional network leaders. Part of the requirement for receiving Core VIPP funding is for SHDs to develop and maintain program their own evaluation capacity and data systems; thus, this data collection is not expected to entail significant burdens to respondents.

There are no costs to respondents other than their time.

Estimated Annualized Burden Hours
Type of respondents | Form name | Number of respondents | Number of responses per respondent | Avg. burden per response (in hrs) | Total burden (in hrs)
Core VIPP funded SHD Injury Program director | Web-based survey | 20 | 1 | 1 | 20
Core VIPP funded SHD Injury Program director | Telephone Interviews | 20 | 1 | 1.5 | 30
Non-funded SHD Injury Program director | Web-based survey | 30 | 1 | 1 | 30
Total |  |  |  |  | 80

Daniel Holcomb,
Reports Clearance Officer, Centers for Disease Control and Prevention.

[FR Doc. 2011-17812 Filed 7-14-11; 8:45 am]

BILLING CODE 4163-18-P